DEPARTMENT OF TRANSPORTATION

Federal Aviation Administration

14 CFR Part 71

[Docket No. FAA-2022-0249; Airspace Docket No. 19-AAL-52]

RIN 2120-AA66

Establishment of United States Area Navigation (RNAV) Route T-481; Sitka, AK

AGENCY: Federal Aviation Administration (FAA), DOT.

ACTION: Final rule.

SUMMARY: This action establishes United States Area Navigation (RNAV) route T-481 in the vicinity of Sitka, AK. This action is in support of a large and comprehensive RNAV T-route modernization project for the state of Alaska. Due to an error, this route was originally proposed as number T-383, which is already assigned as a RNAV T-Route in the vicinity of Gopher, MN. The FAA assigns number T-481 to this T-Route in the vicinity of Sitka, AK.

DATES: Effective date 0901 UTC, October 5, 2023. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11G, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Steven Roff, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it expands the availability of RNAV in Alaska and improves the efficient flow of air traffic within the National Airspace System (NAS) by lessening the dependency on ground-based navigation.

History

The FAA published a NPRM for Docket No. FAA-2022-0249 in the Federal Register (87 FR 16681; March 24, 2022), establishing an RNAV T-route in the vicinity of Sitka, AK in support of a large and comprehensive T-route modernization project for the state of Alaska. At that time, the proposed route was identified as T-383. Interested parties were invited to participate in this rulemaking effort by submitting written comments on the proposal. No comments were received.

Differences From the NPRM

The NPRM proposed to establish an RNAV T-route, identified as T-383, in Alaska. After the publication of the NPRM, the FAA realized that the number T-383 was already in use for another RNAV route in Minnesota. The existing RNAV T-route, T-383 was established in 2017 in Minnesota by a previous final rule (82 FR 27986; June 20, 2017). T-383 in Minnesota extends between the Gopher, MN (GEP), Very High Frequency (VHF) Omnidirectional Range and Tactical Air Navigational System (VORTAC) and the Baudette, MN (BDE), Distance Measuring Equipment (DME). To avoid duplicate route number designations in the NAS, and the confusion that would cause, the FAA corrects this error in the NPRM by identifying the Alaska route as T-481.

The route description of T-481 remains the same as was proposed in the March 24, 2022, NPRM. T-Route, T-383 in Minnesota is not affected by this action. It remains the same as currently published in FAA Order JO 7400.11G.

Incorporation by Reference

United States Area Navigation Routes are published in paragraph 6011 of FAA Order JO 7400.11, Airspace Designations and Reporting Points, which is incorporated by reference in 14 CFR 71.1 on an annual basis. This document amends the current version of that order, FAA Order JO 7400.11G, dated August 19, 2022, and effective September 15, 2022. FAA Order JO 7400.11G is publicly available as listed in the ADDRESSES section of this document. These amendments will be published in the next update to FAA Order JO 7400.11.

FAA Order JO 7400.11G lists Class A, B, C, D, and E airspace areas, air traffic service routes, and reporting points.

The Rule

This action amends 14 CFR part 71 by establishing RNAV T-route T-481, in the vicinity of Sitka, AK, in support of a large and comprehensive T-route modernization project in the state of Alaska. The new route is described below.

T-481: RNAV route T-481 extends between the Biorka Island, AK (BKA), VORTAC and the MAGNM, AK, waypoint (WP), located northwest of the Haines Airport, AK on the United States/Canada border.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this airspace action of establishing RNAV route T-481 in the vicinity of Sitka, AK qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points), and paragraph 5-6.5i, which categorically excludes from further environmental review the establishment of new or revised air traffic control procedures conducted at 3,000 feet or more above ground level (AGL); procedures conducted below 3,000 feet AGL that do not cause traffic to be routinely routed over noise sensitive areas; modifications to currently approved procedures conducted below 3,000 feet AGL that do not significantly increase noise over noise sensitive areas; and increases in minimum altitudes and landing minima. As such, this action is not expected to result in any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact study.

Lists of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p.389.

§ 71.1 [Amended]

2. The incorporation by reference in 14 CFR 71.1 of FAA Order JO 7400.11G, Airspace Designations and Reporting Points, dated August 19, 2022, and effective September 15, 2022, is amended as follows:

Paragraph 6011 United States Area Navigation Routes.

* * * * *

* * * * *
T-481 Biorka Island, AK (BKA) to MAGNM, AK [New]
Biorka Island, AK (BKA) | VORTAC | (Lat. 56°51′33.87″ N, long. 135°33′04.72″ W)
LYRIC, AK | FIX | (Lat. 57°39′58.71″ N, long. 135°40′58.96″ W)
Sisters Island, AK (SSR) | VORTAC | (Lat. 58°10′39.58″ N, long. 135°15′31.91″ W)
BAVKE, AK | WP | (Lat. 59°12′43.71″ N, long. 135°25′39.26″ W)
MAGNM, AK | WP | (Lat. 59°38′21.18″ N, long. 136°05′44.25″ W)
* * * * *

* * * * *

Issued in Washington, DC, on July 19, 2023.
Karen L. Chiodini,
Acting Manager, Airspace Rules and Regulations Group.

[FR Doc. 2023-15673 Filed 7-24-23; 8:45 am]

BILLING CODE 4910-13-P